DEPARTMENT OF THE INTERIOR

Fish and Wildlife Service

Receipt of Application for Endangered Species Permit: Permits for Scientific Purposes, Enhancement of Propagation or Survival i.e., Recovery Permits), and Interstate Commerce Permits

AGENCY: Fish and Wildlife Service, Interior.

ACTION: Notice of receipt of application for endangered species permit.

SUMMARY: The following applicants have applied for permits to conduct certain activities with endangered species. This notice is provided pursuant to section 10(c) of the Endangered Species Act of 1973, as amended (16 U.S.C. 1531 et seq.).

DATES: Written data or comments on these applications must be received, at the address given below, by June 30, 2003.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: If you wish to comment, you may submit comments by any one of several methods. You may mail comments to the Service's Regional Office (see ADDRESS). You may also comment via the internet to “victoria_davis@fws.gov.” Please submit comments over the internet as an ASCII file avoiding the use of special characters and any form of encryption. Please also include your name and return address in your internet message. If you do not receive a confirmation from the Service that we have received your internet message, contact us directly at either telephone number listed above (see FURTHER INFORMATION). Finally, you may hand deliver comments to the Service office listed below (see ADDRESS). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

TE067738-0

Applicant: Lowry Park Zoo, Jennifer Elizabeth Hackshaw, Tampa, Florida.

The applicant requests authorization to receive up to twelve injured and disabled Key Deer (Odocoileus virginianus clavium) for veterinary treatment and rehabilitation. The Key Deer will be identified by personnel at and transferred from the Key Deer National Wildlife Refuge, Monroe County, Florida. They will be housed at the Lowery Park Zoo, Hillsborough County, Florida.

Applicant: J.W. Jones Ecological Research Center, Ichauway, Inc., Newton, Georgia, TE066980-0.

The applicant requests authorization to take (capture, band, release, monitor nests, and install and drill artificial cavity inserts) red-cockaded woodpeckers (Picoides borealis) while conducting presence and absence surveys and management activities. The proposed activities will take place at the Joseph W. Jones Ecological Research Center, Ichauway, Baker County, Georgia.

TE069236-0

Applicant: U.S. Geological Survey, Wiley M. Kitchens, Gainesville, Florida

The applicant requests authorization to take (survey, capture, band, radio-tag, release, recapture, exam and measure, take feather samples, monitor nest) the snail kite (Rostrhamus sociabilis) while collecting information on the demography and movement of the species. The surveys will be performed throughout several wetlands in central and south Florida, including Lake Kissimmee, East and West Lake Tohopekaliga, Lake Okeechobee, Blue Cypress Marshes of the upper Saint Johns, West Palm Beach Water Catchment area (Grassy Water Preserve), ARM Loxahatchee National Wildlife Refuge, Water Conservation Areas 2A, 2B, 3A, and 3B, Big Cypress National Preserve, and the Everglades National Park, including Shark Valley and North East Shark River Slough, Florida.

TE069697-0

Applicant: University of Tennessee at Martin, Department of Agriculture and Natural Resources, 256 Brehm Hall, Martin, Tennessee

The applicant requests authorization to take (collect and display dead relic shells) for educational purposes for the following species: Southern acornshell (Epioblasma othcaloogensis), Cumberland (pearlymussel) bean (Villosa trabalis), purple bean (Villosa perpurpurea), green (pearlymussel) blossom (Epioblasma torulosa gubernaculum), tubercled (pearlymussel) blossom (Epioblasma torulosa torulosa), turgid (pearlymussel) blossom (Epioblasma turgidula), yellow (pearlymussel) blossom (Epioblasma florentina florentina), Catspaw (=purple cat's paw pearlymussel) (Epioblasma obliquata obliquata), Cumberlandian combshell (Epioblasma brevidens), upland combshell (Epioblasma metastriata), Appalachian elktoe (Alasmidonta raveneliana), Cumberland elktoe (Alasmidonta atropurpurea), fanshell (Cyprogenia stegaria), triangular kidneyshell (Ptychobranchus greeni), Alabama lampmussel (Lampsilis virescens), pale (pearlymussel) lilliput (Toxolasma cylindrellus), winged (mussel) mapleleaf (Quadrula fragosa), royal (snail) marstonia (Pyrgulopsis ogmorhaphe), Coosa moccasinshell (Medionidus parvulus), Appalachian (pearlymussel) monkeyface (Quadrula sparsa), Cumberland (pearlymussel) monkeyface (Quadrula intermedia), pink (pearlymussel) mucket (Lampsilis abrupta), oyster mussel (Epioblasma capsaeformis), birdwing pearlymussel (Conradilla caelata), cracking pearlymussel (Hemistena lata), dromedary pearlymussel (Dromus dromas), littlewing pearlymussel (Pagias fabula), Cumberland pigtoe (Pleurobema gibberum), finerayed pigtoe (Fusconaia cuneolus), rough pigtoe (Pleurobema plenum), shiny pigtoe (Fusconaia cor (=edgariana)), southern pigtoe (Pleurobema georgianum), orangefoot (pearlymussel) pimpleback (Plethobasus cooperianus), finelined pocketbook (Lampsilis altilis), rough rabbitsfoot (Quadrula cylindrica strigillata), tan riffleshell (Epioblasma florentina walkeri (=E. Walkeri)), ring (mussel) pink (Obovaria retusa), Anthony's riversnail (Athearnia anthonyi), painted snake coiled forest snail (Anguispira picta), and white (pearlymussel) wartyback (Plethobasus cicatricosus). The proposed activities will take place throughout the state of Tennessee.

TE069754-0

Applicant: Gerald R. Dinkins, Dinkins Biological Consulting, Powell, Tennessee

The applicant requests authorization to take (survey, capture, release, translocate, and collect relict shells) all federally listed freshwater fishes and mussels identified in 50 CFR 17.11.

The proposed take will occur while conducting contract work with the Georgia Department of Transportation, Tennessee Department of Transportation, and other clients across the states of Georgia, Tennessee, and Alabama.

TE070584-0

Applicant: Mark W. Gumbert, Richmond, Kentucky.

The applicant requests authorization to take (survey, monitor, capture, band, radio tag, take tissue samples, release, track, and collect fecal samples) the following species: gray bat (Myotis grisescens), Indiana bat (Myotis sodalis), Ozark big-eared bat (Corynorhinus townsendii ingens), and the Virginia big-eared bat (Corynohinus (=Plecoyus) townsendii virginianus). Take may occur while conducting presence/absence surveys and during monitoring of the populations. The proposed activities will take place in Iowa, Missouri, Arkansas, Illinois, Indiana, Mississippi, Wisconsin, Ohio, Alabama, Georgia, North Carolina, South Carolina, West Virginia, Massachusetts, Vermont, New Hampshire, Rhode Island, Oklahoma, Virginia, Tennessee, Kansas, and Kentucky.

TE070796-0

Applicant: Apogee Environmental Consultants, Joel Beverly, Whitesburg, Kentucky.

The applicant requests authorization to take (survey, monitor, capture, band, radio tag, photograph, release, and track) the following species: gray bat (Myotis grisescens), Indiana bat (Myotis sodalis), and the Virginia big-eared bat (Corynohinus (=Plecoyus) townsendii virginianus). Take may occur while conducting presence/absence surveys and during monitoring of the populations. The proposed activities will take place in Iowa, Missouri, Arkansas, Illinois, Indiana, Mississippi, Wisconsin, Ohio, Alabama, Georgia, North Carolina, South Carolina, West Virginia, Massachusetts, Vermont, New Hampshire, Rhode Island, Oklahoma, Virginia, Tennessee, Kansas, Maryland, Michigan, New Jersey, New York, Pennsylvania, and Kentucky.

TE070800-0

Applicant: Ecological Solutions, Inc., John Erik Alford, Roswell, Georgia.

The applicant requests authorization to take (survey, capture, release, and retain 5 individuals of each species of invertebrates and darters) the following species: blue shiner (Cyprinella caerulea), Etowah darter (Etheostoma etowahae), Cherokee darter (Etheostoma scotti), Amber darter (Percina antesella), goldline darter (Percina aurolineata), Conasauga logperch (Percina jenkinsi), snail darter (Percina tanasi), fat threeridge (Amblema neislerii), purple bankclimber (Elliptoideus sloatianus), upland combshell (Epioblasma metastriata), southern acornshell (Epioblasma othcaloogensis), southern combshell (Epioblasma penita), fine-lined pocketbook (Lampsilis altilis), orange-nacre mucket (Lampsilis perovalis), shinyrayed pocketbook (Lampsilis subangulata), Alabama moccasinshell (Medionidus acutissimus), Coosa moccasinshell (Medionidus parvulus), gulf moccasinshell (Medionidus penicillatus), Ochlockonee moccasinshell (Medionidus simpsonianus), southern clubshell (Pleurobema decisum), southern pigtoe (Pleurobema georgianum), ovate clubshell (Pleurobema perovatum), oval pigtoe (Pleurobema pyriforme), triangular kidneyshell (Ptychobranchus greenii), eastern indigo snake (Drymarchon couperi), and gopher tortoise (Gopherus polyphemus), and while conducting presence and absence studies. The collection of invertebrates and darters are limited to cases where they are unable to be identified in the field. When invertebrates and darters are collected, they will be preserved and donated to an accredited Natural History Museum or educational institution. The applicant also requests authorization to disturb the following species while conducting presence and absence surveys on Federal property: Amphianthus pusillus (little amphianthus), Baptisia arachnifera (hairy rattleweed), Clematis socialis (Alabama leather flower), Echinacea laevigata (smooth purple coneflower), Gymnoderma lineare (Rock Gnome lichen), Helonia bullata (swamp-pink), Isoetes melanospora (black-spored quillwort), Isoetes tegetiformans (mat-forming quillwort), Isotria medeoloides (small whorled pogonia), Lindera melissifolia (pondberry), Marshallia mohrii (Coosa Barbara buttons), Oxypolis canbyi (Canby dropwort), Ptilimnium nodosum (harperella), Rhus michauxii (dwarf sumac), Sagittari secundifolia (Little River Water-plantain), Sarracenia oreophila (green pitcherplant), Schwalbea americana (chaffseed), Silene polypetala (fringed campion), Spiraea virginiana (Virginia spirea), Thalictrum cooleyi (Cooley medowrue), Torreya taxifolia (Florida torreya), Trillium persistens (persistent trillium), Trillium reliquum (relict trillium), and Xyris tennesseensis (Tennessee yellow-eyed grass). The proposed activities will take place in the state of Georgia.

TE070810-0

Applicant: Terracon, Inc., Jamal Najm, Duluth, Georgia.

The applicant requests authorization to take (survey, capture, identify, and release) the following species: fat three-ridge (Amblema neislerii), Chipola slabshell (Elliptio chipolaensis), purple bankclimber (Elliptoideus sloatianus), upland combshell (Epioblasma metastriata), southern acornshell (Epioblasma othcaloogensis), fine-lined pocketbook (Lampsilis altilis), shiny-rayed pocketbook (Lampsilis subangulata), Alabama moccasinshell (Medionidus acutissimus), Coosa moccasinshell (Medionidus parvulus), gulf moccasinshell (Medionidus penicillatus), Ochlockonee moccasinshell (Medionidus simpsonianus), southern clubshell (Pleurobema decisum), southern pigtoe (Pleurobema georgianum), ovate clubshell (Pleurobema perovatum), triangular kidneyshell (Ptychobranchus greeni), oval pigtoe (Pleurobema pyriforme), shortnose sturgeon (Acipenser brevirostrum), blue shiner (Cyprinella caerulea), Cherokee darter (Etheostoma scotti), Etowah darter (Etheostoma etowahae), amber darter (Percina antesella), goldline darter (Percina aurolineata), Conasauga logperch (Percina jenkinsi), and snail darter (Percina tanasi). The purpose of the take is to determine presence or absence and potential impacts to the species due to road and bridge projects. The proposed activities will occur throughout the state of Georgia.

TE070846-0

Applicant: Jeffery Ray Walters, Virginia Tech, Blacksburg, Virginia.

The applicant requests authorization to take (capture, band, radio-tag, release, track, translocate, blood sampling, monitor nests, and construct and install artificial cavity inserts) red-cockaded woodpeckers (Picoides borealis) while conducting presence and absence surveys, population monitoring, and various research studies. The take activities will occur in North Carolina, South Carolina, and Florida.

TE068217-0

Applicant: Alabama A&M University, William E. Stone, Normal, Alabama.

The applicant requests authorization to take (survey, capture, mark, band, radio-tag, track, recapture, and release) the gray bat (Myotis grisescens) and Indiana bat (Myotis sodalis) to collect information on summer habitat requirements for roosting, foraging, and home range used by the species and other rare bats. The information acquired will be used to evaluate the adequacy of current protection measures. The proposed activities will occur on the Bankhead National Forest, Alabama.

TE068229-0

Applicant: Martin County Parks and Recreation, Robert F. Denison, Stuart, Florida.

The applicant requests authorization to take wood storks (Mycteria americana) by harassment that will occur while conducting aerial and boat surveys and ground observations during the nesting season; while removing and chemically treating nuisance exotic plant species; and while planting native vegetation. Harassment may take place while conducting restoration and enhancement activities on dredged material on Bird Island located in the Indian River Lagoon, Martin County, Florida.

Dated: May 13, 2003.
Linda H. Kelsey,
Acting Regional Director.

[FR Doc. 03-13383 Filed 5-28-03; 8:45 am]

BILLING CODE 4310-55-P